NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before July 28, 2006. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means: Mail: NARA (NWML), 8601 Adelphi Road, College Park, MD 20740-6001. E-mail: requestschedule@nara.gov. FAX: 301-837-3698. Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Commerce, Bureau of Industry and Security (N1-476-06-1, 3 items, 3 temporary items). Inputs, master files, and documentation associated with an electronic information system used to generate alphanumeric identification numbers for the exporting community seeking licenses for dual-use technologies.

2. Department of Commerce, Bureau of Industry and Security (N1-476-06-2, 4 items, 4 temporary items). Inputs, outputs, master files, and documentation associated with an electronic information system used for the submission of export license applications, commodity classification requests, and high performance computer notices.

3. Department of Commerce, Bureau of Industry and Security (N1-476-06-3, 4 items, 4 temporary items). Inputs, outputs, master files, and documentation associated with an electronic imaging system used to create and make available to the export community electronic images of all export and classification requests and supporting documentation.

4. Department of Commerce, Bureau of Industry and Security (N1-476-06-4, 4 items, 4 temporary items). Inputs, outputs, master files, and documentation associated with an electronic imaging system used to create and manage electronic images of export license applications.

5. Department of Commerce, Bureau of Industry and Security (N1-476-06-5, 4 items, 4 temporary items). Inputs, outputs, master files, and documentation associated with an electronic information system used to track anti-boycott compliance by U.S. exporters.

6. Department of Commerce, Bureau of Industry and Security (N1-476-06-6, 4 items, 4 temporary items). Inputs, outputs, master files, and documentation associated with an electronic information system used to track anti-boycott enforcement actions relating to U.S. exporters.

7. Department of Homeland Security, Federal Emergency Management Agency (N1-311-06-2, 2 items, 2 temporary items). Routine photographs and mission-related photographs that lack historical value. This schedule authorizes the agency to apply the proposed disposition instructions to any recordkeeping medium.

8. Department of Homeland Security, U.S. Coast Guard (N1-26-05-21, 4 items, 4 temporary items). Records of the Health Services Program including inventory logs and prescription records for controlled substances administered by U.S. Coast Guard pharmacies. Also included are electronic copies of records created using electronic mail and word processing.

9. Department of Homeland Security, U.S. Coast Guard (N1-26-06-4, 7 items, 5 temporary items). Inputs, outputs, and electronic mail and word processing copies associated with an electronic information system used to describe and maintain marine navigational aids. Proposed for permanent retention are the master files and documentation.

10. Department of the Interior, National Park Service (N1-79-06-1, 2 items, 2 temporary items). Law enforcement commission case files maintained by the Visitor and Resource Protection Office. Also included are electronic copies of records created using electronic mail and word processing applications.

11. Department of Labor, Administrative Review Board (N1-174-06-2, 8 items, 8 temporary items). Records involving labor-related legal cases, including adjudicative case files, working papers, decision files, chronological files, and correspondence files. Also included are electronic copies of records created using electronic mail and word processing.

12. Department of Transportation, Federal Motor Carrier Safety Administration (N1-557-05-2, 63 items, 63 temporary items). Records created and maintained by the Office of Chief Counsel. Included are such records as budget background files, reference files, monthly reports, legal opinions, litigation files, enforcement files, subpoena files, rulemaking files, and legislative files. Also included are electronic copies of records created using electronic mail and word processing. This schedule authorizes the agency to apply the proposed disposition instructions to any recordkeeping medium.

13. Department of the Treasury, Internal Revenue Service (N1-58-06-4, 1 item, 1 temporary item). Quarterly certification documents required of supervisors to demonstrate compliance with the Revenue Restructuring Act of 1998.

14. Environmental Protection Agency, Agency-wide (N1-412-06-7, 3 items, 2 temporary items). This schedule authorizes the agency to apply the existing disposition instructions to directive and policy guidance documents issued by specific programs and regions, regardless of recordkeeping medium. Paper recordkeeping copies of directives and policy guidance documents that are unpublished and related background materials were previously approved for disposal. Paper recordkeeping copies of directives and policy guidance documents that are published and/or released to the public and related background materials that are necessary to fully document the development of the directive or guidance were previously approved as permanent. Also covered by this schedule are electronic copies of records created using electronic mail.

15. Environmental Protection Agency, Agency-wide (N1-412-06-8, 3 items, 2 temporary items). This schedule authorizes the agency to apply the existing disposition instructions to speeches and testimony, regardless of recordkeeping medium. Paper recordkeeping copies of speeches and testimony by employees other than senior officials were previously approved for disposal. Paper recordkeeping copies of speeches and testimony by senior officials were previously approved as permanent. Also covered by this schedule are electronic copies of records created using electronic mail.

16. Environmental Protection Agency, Agency-wide (N1-412-06-9, 4 items, 3 temporary items). This schedule authorizes the agency to apply the existing disposition instructions to publications and promotional items, regardless of recordkeeping medium. Paper recordkeeping copies of routine publications and promotional items, and paper recordkeeping copies of working papers and background materials for all publications and promotional materials were previously approved for disposal. Paper recordkeeping copies of publications or promotional items depicting mission activities were previously approved as permanent. Also covered by this schedule are electronic copies of records created using electronic mail.

17. Environmental Protection Agency, Agency-wide (N1-412-06-10, 3 items, 2 temporary items). This schedule authorizes the agency to apply the existing disposition instructions to controlled and major correspondence, regardless of recordkeeping medium. Paper recordkeeping copies of controlled and major correspondence of the offices of Division Directors and other personnel were previously approved for disposal. Paper recordkeeping copies of controlled and major correspondence of specified senior-level officials were previously approved as permanent. Also covered by this schedule are electronic copies of records created using electronic mail.

18. Environmental Protection Agency, Agency-wide (N1-412-06-11, 5 items, 3 temporary items). This schedule authorizes the agency to apply the existing disposition instructions to training materials, regardless of recordkeeping medium. Paper and audiovisual recordkeeping copies of routine training course plans and materials used for personnel and management training unrelated to the agency's environmental mission were previously approved for disposal. Paper and audiovisual recordkeeping copies of mission-related training course plans and materials used for training in functions or activities related to the agency's environmental goals and programs were previously approved as permanent. Also covered by this schedule are electronic copies of records created using electronic mail.

Dated: June 6, 2006.
Michael J. Kurtz,
Assistant Archivist for Records Services—Washington, DC.

[FR Doc. E6-9158 Filed 6-12-06; 8:45 am]

BILLING CODE 7515-01-P